DEPARTMENT OF AGRICULTURE

Animal and Plant Health Inspection Service

[Docket No. APHIS-2012-0098 ]

Notice of Request for Extension of Approval of an Information Collection; Tuberculosis Testing of Imported Cattle From Mexico

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the regulations for tuberculosis testing of imported cattle from Mexico.

DATES: We will consider all comments that we receive on or before March 19, 2013.

ADDRESSES: You may submit comments by either of the following methods:

• Federal eRulemaking Portal: Go to http://www.regulations.gov/#!documentDetail;D=APHIS-2012-0098-0001.

• Postal Mail/Commercial Delivery: Send your comment to Docket No. APHIS-2012-0098, Regulatory Analysis and Development, PPD, APHIS, Station 3A-03.8, 4700 River Road, Unit 118, Riverdale, MD 20737-1238.

Supporting documents and any comments we receive on this docket may be viewed at http://www.regulations.gov/#!docketDetail;D=APHIS-2012-0098 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information regarding the regulations for tuberculosis testing of imported cattle, contact Dr. Langston Hull, Staff Veterinary Medical Officer, National Center for Import and Export, VS, APHIS, 4700 River Road, Unit 39, Riverdale, MD 20737; (301) 851-3363. For copies of more detailed information on the information collection, contact Mrs. Celeste Sickles, APHIS' Information Collection Coordinator, at (301) 851-2908.

SUPPLEMENTARY INFORMATION: Title: Tuberculosis Testing of Imported Cattle from Mexico.

OMB Number: 0579-0224.

Type of Request: Extension of approval of an information collection.

Abstract: Under the Animal Health Protection Act (7 U.S.C. 8301 et seq.), the Animal and Plant Health Inspection Service (APHIS) of the United States Department of Agriculture (USDA) is authorized, among other things, to prohibit or restrict the importation and interstate movement of animals and animal products to prevent the introduction into and dissemination within the United States of livestock diseases and pests. APHIS regulates the importation of animals and animal products into the United States. Regulations concerning the importation of animals are contained in 9 CFR part 93. Subpart D of part 93 pertains to the importation of ruminants, including cattle.

The regulations in subpart D include requirements to ensure that cattle imported into the United States from Mexico are free of bovine tuberculosis. The importation of these cattle involve information collection activities, such as the USDA, APHIS, Veterinary Services (VS) Application for Import or in Transit Permit (Animals, Animal Semen, Animal Embryos, Birds, Poultry, or Hatching Eggs) (VS Form 17-129) and USDA, APHIS, VS Declaration of Importation (Animals, Animal Semen, Animal Embryos, Birds, Poultry, or Hatching Eggs) (VS Form 17-29). In addition, subpart D requires that cattle be accompanied by a health certificate and that the application for the import permit list the specific locations of all premises that the cattle to be imported have been on. Lastly, subpart D requires tickicidal dip certification and certification regarding the tuberculosis history of the herd of origin for the cattle destined for export to the United States. This information is necessary to allow APHIS to ensure that the cattle to be imported from Mexico are free of tuberculosis, thereby protecting the health of the U.S. livestock.

We are asking the Office of Management and Budget (OMB) to approve our use of these information collection activities for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.844 hours per response.

Respondents: Salaried veterinary officers of the Mexican Government from the exporting region, veterinary officials of exporting regions approved by Mexico's national animal health service, exporters, and U.S. cattle importers.

Estimated annual number of respondents: 81,851.

Estimated annual number of responses per respondent: 1.335.

Estimated annual number of responses: 109,255.

Estimated total annual burden on respondents: 92,215 hours. (Due to averaging, the total annual burden hours may not equal the product of the annual number of responses multiplied by the reporting burden per response.)

All responses to this notice will be summarized and included in the request for OMB approval. All comments will also become a matter of public record.

Done in Washington, DC, this 14th day of January 2013.
Kevin Shea,
Acting Administrator, Animal and Plant Health Inspection Service.

[FR Doc. 2013-01021 Filed 1-17-13; 8:45 am]

BILLING CODE 3410-34-P